DEPARTMENT OF COMMERCE

Foreign-Trade Zones Board

(Docket T-5-2008)

Foreign-Trade Zone 122 - Corpus Christi, Texas, Application for Temporary/Interim Manufacturing Authority, Excalibar Minerals, LLC, (Barite Milling), Notice of Approval

On November 20, 2008, an application was filed by the Executive Secretary of the Foreign-Trade Zones (FTZ) Board submitted by the Port of Corpus Christi Authority, grantee of FTZ 122, requesting temporary/interim manufacturing (T/IM) authority on behalf of Excalibar Minerals LLC (Excalibar) to perform barite milling under FTZ procedures within FTZ 122 - Site 1, in Corpus Christi, Texas.

The application has been processed in accordance with T/IM procedures, as authorized by FTZ Board Orders 1347 (69 FR 52857, 8/30/2004) and 1480 (71 FR 55422, 9/22/06), including notice in the Federal Register inviting public comment (73 FR 73242, 12/2/2008). The FTZ staff examiner reviewed the application and determined that it meets the criteria for approval under T/IM procedures. The foreign-origin component approved for this activity is raw barite (2511.10). Pursuant to the authority delegated to the FTZ Board Executive Secretary in the above-referenced Board Orders, the application is approved, effective this date, until February 5, 2011, subject to the FTZ Act and the Board's regulations, including Section 400.28.

Dated: February 5, 2009.
Andrew McGilvray,
Executive Secretary.

[FR Doc. E9-3165 Filed 2-12-09; 8:45 am]

BILLING CODE 3510-DS-S